DEPARTMENT OF HEALTH AND HUMAN SERVICES

National Institutes of Health

National Institute on Alcohol Abuse and Alcoholism; National Institute on Drug Abuse; Notice of Meeting

Pursuant to section 10(a) of the Federal Advisory Committee Act, as amended (5 U.S.C. App), notice is hereby given of a joint meeting of the National Advisory Council on Alcohol Abuse and Alcoholism and the National Advisory Council on Drug Abuse.

The meeting will be open to the public, with attendance limited to space available. Individuals who plan to attend and need special assistance, such as sign language interpretation or other reasonable accommodations, should notify one of the IC Contact Persons listed below in advance of the meeting.

Name of Committees: National Advisory Council on Alcohol Abuse and Alcoholism and National Advisory Council on Drug Abuse.

Date: April 11, 2011.

Open: April 11, 2011, 10 a.m. to 1:30 p.m.

Agenda: NIH Director's report on the new institute on substance use, abuse and addiction and discussion with the NIH Director and Council Members of NIDA and NIAAA Council.

Place: National Institutes of Health, Building 1, Wilson Hall, Bethesda, MD 20892.

Contact Person: Abraham P. Bautista, PhD, Director, Office of Extramural Activities, National Institute on Alcohol Abuse and Alcoholism, National Institutes of Health, 5635 Fishers Lane, Room 2085, Rockville, MD 20892. 301-443-9737. bautistaa@mail.nih.gov.

Contact Person: Teresa Levitin, PhD, Director, Office of Extramural Affairs, National Institute on Drug Abuse, NIH, DHHS, Room 4243, MSC 9550, 6001 Executive Boulevard, Bethesda, MD 20892-9550. (301) 443-2755. tlevitin@nida.nih.gov.

Any interested person may file written comments with the committee by forwarding the statement to a Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Information will also available on the Institute's/Center's home pages: http:///www.silk.nih.gov/silk/niaaa1/about/roster.htm, and http://www.nida.nih.gov/nidahome.html where an agenda and any additional information for the meeting will be posted when available.

(Catalogue of Federal Domestic Assistance Program Nos.: 93.271, Alcohol Research Career Development Awards for Scientists and Clinicians; 93.272, Alcohol National Research Service Awards for Research Training; 93.273, Alcohol Research Programs; 93.891, Alcohol Research Center Grants; 93.701, ARRA Related Biomedical Research and Research Support Awards., National Institutes of Health, HHS)

Dated: March 11, 2011.
Jennifer S. Spaeth,
Director, Office of Federal Advisory Committee Policy.

[FR Doc. 2011-6448 Filed 3-17-11; 8:45 am]

BILLING CODE 4140-01-P